DEPARTMENT OF COMMERCE

International Trade Administration

[A-549-842]

Passenger Vehicle and Light Truck Tires From Thailand: Preliminary Results and Rescission, in Part, of Antidumping Duty Administrative Review; 2023-2024

AGENCY: Enforcement and Compliance, International Trade Administration, Department of Commerce.

SUMMARY: The U.S. Department of Commerce (Commerce) preliminarily determines that passenger vehicle and light truck tires (PVLT) from Thailand were sold in the United States at less than normal value (NV) by Sentury Tire (Thailand) Co., Ltd. (Sentury) during the period of review (POR) July 1, 2023, through June 30, 2024. Commerce preliminarily determines that sales of PVLT from Thailand have not been made below NV by Sumitomo Rubber (Thailand) Co., Ltd. (SRT) during the POR. Additionally, Commerce is rescinding the review, in part, with respect to four companies. We invite interested parties to comment on these preliminary results.

DATES: Applicable January 14, 2026.

FOR FURTHER INFORMATION CONTACT: Myrna Lobo or Jacob Saude, AD/CVD Operations, Office VII, Enforcement and Compliance, International Trade Administration, U.S. Department of Commerce, 1401 Constitution Avenue NW Washington, DC 20230; telephone: (202) 482-2371 or (202) 482-0981, respectively.

SUPPLEMENTARY INFORMATION:

Background

On July 1, 2024, Commerce published in the Federal Register a notice of opportunity ¹ to request an administrative review of the antidumping duty order on PVLT from Thailand.² On August 14, 2024, in accordance with 19 CFR 351.221(c)(1)(i), Commerce published a notice of initiation of an administrative review of the Order.³ On December 9, 2024, Commerce tolled the deadline to issue the preliminary results in this administrative review by 90 days.⁴ On June 25, 2025, in accordance with section 751(a)(3)(A) of the Tariff Act of 1930, as amended (the Act), and 19 CFR 351.213(h)(2), Commerce extended the due date for the preliminary results until October 29, 2025.⁵ Due to the lapse in appropriations and Federal Government shutdown, on November 14, 2025, Commerce tolled all deadlines in administrative proceedings by 47 days.⁶ Additionally, due to a backlog of documents that were electronically filed via Enforcement and Compliance's Antidumping and Countervailing Duty Centralized Electronic Service System (ACCESS) during the Federal Government shutdown, on November 24, 2025, Commerce tolled all deadlines in administrative proceedings by an additional 21 days.⁷ Accordingly, the deadline for these preliminary results is now January 5, 2026.

¹ See Antidumping or Countervailing Duty Order, Finding or Suspended Investigation; Opportunity to Request Administrative Review and Join Annual Inquiry Service List, 89 FR 54437 (July 1, 2024).

² See Passenger Vehicle and Light Truck Tires from the Republic of Korea, Taiwan, and Thailand: Antidumping Duty Orders and Amended Final Affirmative Antidumping Duty Determination for Thailand, 86 FR 38011 (July 19, 2021) (Order).

³ See Initiation of Antidumping and Countervailing Duty Administrative Reviews, 89 FR 66035 (August 14, 2024) and correction in Initiation of Antidumping and Countervailing Duty Administrative Reviews, 89 FR 77079 (September 20, 2024).

⁴ See Memorandum, “Tolling of Deadlines for Antidumping and Countervailing Duty Proceedings,” dated December 9, 2024.

⁵ See Memorandum, “Passenger Vehicle and Light Truck Tires from Thailand: Extension of Deadline for Preliminary Results of Antidumping Duty Administrative Review; 2023-2024,” dated June 25, 2025.

⁶ See Memorandum, “Deadlines Affected by the Shutdown of the Federal Government,” dated November 17, 2025.

⁷ See Memorandum, “Tolling of all Case Deadlines,” dated November 24, 2025.

For a detailed description of the events that followed the initiation of this review, see the Preliminary Decision Memorandum.⁸ A list of the topics included in the Preliminary Decision Memorandum is included as Appendix I to this notice. The Preliminary Decision Memorandum is a public document and is on file electronically via ACCESS. ACCESS is available to registered users at https://access.trade.gov. In addition, a complete version of the Preliminary Decision Memorandum can be accessed directly at https://access.trade.gov/public/FRNoticesListLayout.aspx.

⁸ See Memorandum, “Decision Memorandum for the Preliminary Results of the Administrative Review of the Antidumping Duty Order on Passenger Vehicle and Light Truck Tires from Thailand; 2023-2024,” dated concurrently with, and hereby adopted by, this notice (Preliminary Decision Memorandum).

Scope of the Order

The products covered by the Order are PVLT from Thailand. For a complete description of the scope of the Order, see the Preliminary Decision Memorandum.

Rescission of Administrative Review, in Part

Pursuant to 19 CFR 351.213(d)(1), Commerce will rescind an administrative review, in whole or in part, if the parties that requested a review withdraw the request within 90 days of the date of publication of the notice of initiation. Requests for review were timely withdrawn for the companies identified in Appendix II of this notice. Because the requests for review were timely withdrawn and no other parties requested a review of these companies, in accordance with 19 CFR 351.213(d)(1), Commerce is rescinding the review with respect to these companies.⁹

⁹ See American Omni Trading Company, LLC's Letter, “Withdrawal of Request for Administrative Review,” with respect to LLIT (Thailand) Co., Ltd., dated September 11, 2024; see also Maxxis International (Thailand) Co., Ltd.'s Letter, “Withdrawal of Request for Administrative Review,” dated October 30, 2024; General Rubber (Thailand) Co., Ltd.'s Letter, “Withdrawal of Request for Administrative Review,” dated November 12, 2024; and Otani Radial Co., Ltd. and Otani Tire Co., Ltd.'s Letter, “Withdrawal of Request for Administrative Review,” dated November 12, 2024. Although Sentury requested a withdrawal of review, we have not rescinded the review with respect to Sentury because the petitioner also requested a review of Sentury. See Sentury's Letter, “Sentury Withdrawal of Request for Antidumping Administrative Review,” dated November 12, 2024; see also Petitioner's Letter, “Review Request,” dated July 31, 2024.

Methodology

Commerce is conducting this review in accordance with sections 751(a)(1)(B) and (2) of the Act. Export price and NV are calculated in accordance with sections 772 and 773 of the Act. For a full description of the methodology underlying these preliminary results, see the Preliminary Decision Memorandum.

Rate for Companies Not Individually Examined

The Act and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally equal to the weighted average of the estimated weighted-average dumping margins established for exporters and producers individually examined, excluding rates that are zero, de minimis (i.e., less than 0.50 percent), or determined entirely on the basis of facts available.

Where the dumping margin for individually examined respondents are all zero, de minimis, or based entirely on facts available, section 735(c)(5)(B) of the Act provides that Commerce may use “any reasonable method to establish the estimated all-others rate for exporters and producers not individually investigated, including averaging the estimated weighted average dumping margins determined for the exporters and producers individually investigated.”

In this review, we have preliminarily calculated a zero weighted-average dumping margin for SRT and calculated an above de minimis weighted-average dumping margin for Sentury. Accordingly, we have preliminarily assigned Sentury's estimated weighted-average dumping margin to the non-selected companies,¹⁰ consistent with section 735(c)(5)(B) of the Act.

¹⁰ See Appendix III for a list of the non-selected companies.

Preliminary Results of Review

We preliminarily determine the following weighted-average dumping margins exist for the period July 1, 2023, through June 30, 2024:

¹¹ See Appendix III.

Producer/exporter | Weighted-average dumping margin (percent)
Sentury Tire (Thailand) Co., Ltd | 2.94
Sumitomo Rubber (Thailand) Co., Ltd | 0.00
Review-Specific Rate for Non-Examined Companies ¹¹ | 2.94

Disclosure

Commerce intends to disclose its calculations and analysis performed to interested parties for these preliminary results of this administrative review within five days of any public announcement or, if there is no public announcement, within five days of the date of publication of this notice in the Federal Register, in accordance with 19 CFR 351.224(b).

Public Comment

Commerce will notify interested parties of the deadline for submission of case briefs.¹² Rebuttal briefs, limited to issues raised in the case briefs, may be filed not later than five days after the date for filing case briefs.¹³ Interested parties who submit case or rebuttal briefs in this proceeding must submit: (1) a table of contents listing each issue; and (2) a table of authorities.¹⁴

¹² See 19 CFR 351.309(c)(1)(ii); see also 19 CFR 351.303 (for general filing requirements).

¹³ See 19 CFR 351.309(d); see also Administrative Protective Order, Service, and Other Procedures in Antidumping and Countervailing Duty Proceedings, 88 FR 67069, 67077 (September 29, 2023) (APO and Service Procedures).

¹⁴ See 19 351.309(c)(2) and (d)(2).

As provided under 19 CFR 351.309(c)(2)(iii) and (d)(2)(iii), we request that interested parties provide at the beginning of their briefs a public, executive summary for each issue raised in their briefs.¹⁵ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁶

¹⁵ We use the term “issue” here to describe an argument that Commerce would normally address in a comment of the Issues and Decision Memorandum.

¹⁶ See APO and Service Procedures.

Interested parties who wish to request a hearing must submit a written request to the Assistant Secretary for Enforcement and Compliance, filed electronically via ACCESS.¹⁷ Requests should contain: (1) the party's name, address, and telephone number; (2) the number of participants and whether any participant is a foreign national; and (3) a list of issues to be discussed. Issues raised in the hearing will be limited to those raised in case and rebuttal briefs.¹⁸ If a request for a hearing is made, Commerce intends to hold the hearing at a time and date to be determined. A hearing request must be filed electronically using ACCESS and received in its entirety by 5:00 p.m. Eastern Time within 30 days after the publication of this notice.

¹⁷ See 19 CFR 351.310(c).

¹⁸ See 19 CFR 351.310.

Final Results of Review

Unless otherwise extended, commerce intends to issue the final results of this administrative review, including the results of its analysis of the issues raised in any written briefs, not later than 120 days after the date of publication of this notice in the Federal Register, pursuant to section 751(a)(3)(A) of the Act and 19 CFR 351.213(h)(1).

Assessment Rates

Pursuant to section 751(a)(2)(A) of the Act and 19 CFR 351.212(b)(1), Commerce will determine, and U.S. Customs and Border Protection (CBP) shall assess, antidumping duties on all appropriate entries of subject merchandise in accordance with the final results of this review. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

If Sentury or SRT's weighted-average dumping margins are not zero or de minimis (i.e., less than 0.50 percent) in the final results of this review, Commerce intends to calculate importer-specific assessment rates based on the ratio of the total amount of dumping calculated for each importer's examined sales to the total entered value of those same sales in accordance with CFR 351.212(b)(1).¹⁹ Where we do not have entered values for all U.S. sales to a particular importer, we will calculate an importer-specific, per-unit assessment rate on the basis of the ratio of the total amount of dumping calculated for the importer's examined sales to the total quantity of those sales.²⁰ To determine whether an importer-specific, per-unit assessment rate is de minimis, in accordance with 19 CFR 351.106(c)(2), we also will calculate an importer-specific ad valorem ratio based on estimated entered values. If Sentury or SRT's weighted-average dumping margins are zero or de minimis or where an importer-specific ad valorem assessment rate is zero or de minimis, we will instruct CBP to liquidate appropriate entries without regard to antidumping duties.²¹

¹⁹ See Antidumping Proceedings: Calculation of the Weighted-Average Dumping Margin and Assessment Rate in Certain Antidumping Proceedings; Final Modification, 77 FR 8101, 8103 (February 14, 2012).

²⁰ See 19 CFR 351.212(b)(1).

²¹ See 19 CFR 351.106(c)(2); see also Antidumping Proceeding: Calculation of the Weighted-Average Dumping Margin and Assessment Rate in Certain Antidumping Proceedings; Final Modification, 77 FR 8101, 8103 (February 14, 2012).

In accordance with Commerce's “automatic assessment” practice, for entries of subject merchandise during the POR produced by Sentury or SRT for which it did not know that the merchandise was destined for the United States, we intend to instruct CBP to liquidate those entries at the all-others rate in the original LTFV investigation if there is no rate for the intermediate company(ies) involved in the transaction.²²

²² For a full discussion of this practice, see Antidumping and Countervailing Duty Proceedings: Assessment of Antidumping Duties, 68 FR 23954 (May 6, 2003).

For companies for which we are rescinding this administrative review (see Appendix II) antidumping duties shall be assessed at rates equal to the cash deposit of estimated antidumping duties required at the time of entry, or withdrawal from warehouse, for consumption, during the POR, in accordance with 19 CFR 351.212(c)(1)(i). For these companies, Commerce intends to issue assessment instructions to CBP no earlier than 35 days after the date of publication of these preliminary results in the Federal Register.

Cash Deposit Requirements

The following cash deposit requirements will be effective for all shipments of subject merchandise entered, or withdrawn from warehouse, for consumption on or after the date of publication of the final results of this administrative review, as provided for by section 751(a)(2)(C) of the Act: (1) the cash deposit rate for the companies listed above will be equal to the weighted-average dumping margin established in the final results of this review (except, if that rate is de minimis within the meaning of 19 CFR 351.106(c)(1), then the cash deposit rate will be zero); (2) for producers or exporters not covered in this review but covered in a prior segment of the proceeding, the cash deposit rate will continue to be the company-specific rate published for the most recently-completed segment of this proceeding in which they were reviewed; (3) if the exporter is not a firm covered in this review or a prior segment of the proceeding but the producer is, then the cash deposit rate will be the rate established for the most recently completed segment of this proceeding for the producer of the merchandise; and (4) the cash deposit rate for all other producers or exporters will continue to be 17.06 percent, the all-others rate established in the LTFV investigation.²³ These cash deposit requirements, when imposed, shall remain in effect until further notice.

²³ See Order, 86 FR at 38012.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(d)(1), 19 CFR 351.213(h)(2), and 19 CFR 351.221(b)(4).

Dated: January 5, 2026.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Discussion of the Methodology

V. Currency Conversion

VI. Recommendation

Appendix II

Companies Rescinded From Review

1. General Rubber (Thailand) Co., Ltd.

2. LLIT (Thailand) Co., Ltd.

3. Maxxis International (Thailand) Co. Ltd.

4. Otani Radial Co., Ltd./Otani Tire Co., Ltd.

Appendix III

Non-Examined Companies Receiving a Review-Specific Rate

1. Bridgestone Company, Ltd. (aka Bridgestone Company and Bridgestone Corporation)

2. Bridgestone Tire Manufacturing (Thailand) Co., Ltd. (aka Bridgestone Tire Manufacturing and Thai Bridgestone Co.)

3. Deestone Corporation Public Company Limited; Deestone Corporation Ltd.; Deestone Limited; Deestone International Company Limited; Svizz-One Corporation Limited; Siamtruck Radial Company Limited

4. Huayi Group (Thailand) Company Limited

5. Prinx Chengshan Tire (Thailand) Co., Ltd.

6. S.R. Tyres Co., Ltd.

7. Vee Tyre & Rubber Co., Ltd.

8. Yokohama Rubber Co., Ltd.

9. Yokohama Tire Manufacturing (Thailand) Co., Ltd.

[FR Doc. 2026-00502 Filed 1-13-26; 8:45 am]

BILLING CODE 3510-DS-P